DEPARTMENT OF ENERGY

National Coal Council

AGENCY: Department of Energy.

ACTION: Notice of open meeting.

SUMMARY: This notice announces one virtual meeting of the National Coal Council (NCC). The Federal Advisory Committee Act (Pub. L. 92-463, 86 Stat. 770) requires that public notice of these meetings be announced in the Federal Register.

DATES: Thursday, January 29, 2015, 11:00 a.m. to 12:00 p.m.

ADDRESSES: If you wish to join the meeting you must forward an email address to robert.wright@hq.doe.gov by close of business, Friday, January 23, 2015, with your name, organization, email address, telephone number and a request to join the meeting. Three days before the meeting, instructions on how to join the WebEx webinar will be forwarded to your email address. WebEx requires a computer, web browser and an installed application (free).

FOR FURTHER INFORMATION CONTACT: Dr. Robert J. Wright, U.S. Department of Energy, 4G-036/Forrestal Building, 1000 Independence Avenue SW., Washington, DC 20585-0001; Telephone: 202-586-0429.

SUPPLEMENTARY INFORMATION: Purpose of the Council: The National Coal Council provides advice and recommendations to the Secretary of Energy, on general policy matters relating to coal and the coal industry.

Purpose of Meeting: The National Coal Council (the Council) will hold a virtual meeting via Cisco WebEx at 11:00 a.m. (EST) on Thursday, January 29, 2015, for the sole purpose of receiving a report, “Bridging the CCS Chasm: An Assessment of Opportunities to Advance CCS/CCUS Deployment”, from the Council Policy Committee. The Council membership will be asked to accept the study and forward it to the U. S. Secretary of Energy.

The draft report to be presented will be available eight days in advance (Wednesday, January 21, 2015) at the following URL: http://www.nationalcoalcouncil.org/newsletter/Bridging_the_CCS_Chasm.pdf.

Public Participation: The meeting is open to the public. If you would like to file a written statement with the Council, you may do so either before or up to 5 days after the meeting. Please contact Dr. Wright at the address or telephone number listed above.

Minutes: A link to the audio/video recording of the meeting will be posted on the NCC Web site at: http://www.nationalcoalcouncil.org/.

Issued at Washington, DC on December 31, 2014.
LaTanya R. Butler,
Deputy Committee Management Officer.

[FR Doc. 2015-00026 Filed 1-6-15; 8:45 am]

BILLING CODE 6450-01-P